DEPARTMENT OF HOMELAND SECURITY

Coast Guard

33 CFR Part 117

[Docket No. USCG-2011-0626]

RIN 1625-AA09

Drawbridge Operation Regulation; Old River Channel of the Cuyahoga River, Cleveland, OH

AGENCY: Coast Guard, DHS.

ACTION: Notice of temporary deviation from regulations.

SUMMARY: The Commander, Ninth Coast Guard District, has issued a temporary deviation from the regulations governing the operation of the Willow Street Bridge at mile 1.02 across the Old River Channel of the Cuyahoga River in Cleveland, OH. The deviation is necessary to facilitate replacement of machinery that operates the bridge. This deviation allows the bridge to remain secured to masted navigation during the maintenance period.

DATES: This temporary deviation is effective from January 31, 2012 through February 21, 2012.

ADDRESSES: Documents mentioned in this preamble as being available in the docket, are part of docket USCG-2011-0626 and are available online by going to http://www.regulations.gov, inserting USCG-2011-0626 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary deviation, call or e-mail Mr. Lee D. Soule, Bridge Management Specialist, U.S. Coast Guard; telephone 216-902-6085, e-mail lee.d.soule@uscg.mil. If you have questions on viewing the docket, call Renee V. Wright, Program Manager, Docket Operations, telephone 202-366-9826.

SUPPLEMENTARY INFORMATION: The Willow Street Bridge, at mile 1.02 across the Old River Channel of the Cuyahoga River, at Cleveland, Ohio, has a vertical clearance in the closed position of 12 feet and a horizontal clearance of 150 feet. There are no specific requirements for this bridge in Subpart B of 33 CFR 117 and is therefore required to open on signal at all times.

The bridge owner requested a temporary deviation from the regulations to facilitate the replacement of the bridge operating machinery. The work requires the bridge to be kept in the closed position.

The Old River Channel of the Cuyahoga River serves a tug company, salt mine, road improvement, and construction facilities that import or export materials and services. One yacht club and two marinas are also located on this waterway. The Coast Guard coordinated with the bridge owner and the facilities on and adjacent to the waterway to establish the dates of this temporary deviation to be the least disruptive to their operations.

Under this temporary deviation, the Willow Street Bridge will remain secured to masted navigation and will not be required to open for any vessel from January 31, 2012 through February 21, 2012. Vessels able to pass under the bridge without an opening may do so at anytime.

In accordance with 33 CFR 117.35(e), the bridge must return to its regular operating schedule immediately at the end of the designated time period. This deviation from the operating regulations is authorized under 33 CFR 117.35.

Dated: June 28, 2011.
Scot M. Striffler,
Bridge Program Manager, Ninth Coast Guard District.

[FR Doc. 2011-17257 Filed 7-8-11; 8:45 am]

BILLING CODE 9110-04-P